TENNESSEE VALLEY AUTHORITY

Sunshine Act Meetings

TIME AND DATE: 9 a.m. on February 13, 2020.

PLACE: The Lyric Theatre, 1006 Van Buren Avenue, Oxford, Mississippi.

STATUS: Open.

MATTERS TO BE CONSIDERED:

Meeting No. 20-01

The TVA Board of Directors will hold a public meeting on February 13, 2020, at the Lyric Theatre, 1006 Van Buren Avenue, Oxford, Mississippi. The meeting will be called to order at 9 a.m. CT to consider the agenda items listed below. TVA management will answer questions from the news media following the Board meeting.

On February 12, at the Powerhouse, 413 South 14th Street, the public may comment on any agenda item or subject at a board-hosted public listening session which begins at 3:30 p.m. CT and will last until 5:30 p.m. Preregistration is required to address the Board.

Agenda

1. Approval of Minutes of the November 14, 2019, Board Meeting

2. Report from President and CEO

3. Report of the External Relations Committee

A. FACA Charter Renewals

4. Report of the Finance, Rates, and Portfolio Committee

A. Spent Fuel Settlement Agreement

B. Flexibility Option

5. Report of the People and Performance Committee

6. Report of the Nuclear Oversight Committee

7. Report of the Audit, Risk, and Regulation Committee

8. Information Item

A. Amendments to the Long-Term Partnership Option

CONTACT PERSON FOR MORE INFORMATION: For more information: Please call Jim Hopson, TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 6, 2020.
Sherry A. Quirk,
General Counsel.

[FR Doc. 2020-02791 Filed 2-7-20; 4:15 pm]

BILLING CODE 8120-08-P